DEPARTMENT OF TRANSPORTATION

Federal Highway Administration

Notice of Final Federal Agency Actions on Proposed Highway Projects in Texas

AGENCY: Texas Department of Transportation (TxDOT), Federal Highway Administration (FHWA), U.S. Department of Transportation.

ACTION: Notice of Limitation on Claims for Judicial Review of Actions by TxDOT and Federal Agencies.

SUMMARY: This notice announces actions taken by TxDOT and Federal agencies that are final. The environmental review, consultation, and other actions required by applicable Federal environmental laws for these projects are being, or have been, carried-out by TxDOT pursuant to an assignment agreement executed by FHWA and TxDOT. The actions relate to various proposed highway projects in the State of Texas. These actions grant licenses, permits, and approvals for the projects.

DATES: By this notice, TxDOT is advising the public of final agency actions subject to 23 U.S.C. 139(l)(1). A claim seeking judicial review of TxDOT and Federal agency actions on the highway projects will be barred unless the claim is filed on or before the deadline. For the projects listed below, the deadline is January 4, 2020. If the Federal law that authorizes judicial review of a claim provides a time period of less than 150 days for filing such a claim, then that shorter time period still applies.

FOR FURTHER INFORMATION CONTACT: Carlos Swonke, Environmental Affairs Division, Texas Department of Transportation, 125 East 11th Street, Austin, Texas 78701; telephone: (512) 416-2734; email: carlos.swonke@txdot.gov. TxDOT's normal business hours are 8:00 a.m.-5:00 p.m. (central time), Monday through Friday.

SUPPLEMENTARY INFORMATION: The environmental review, consultation, and other actions required by applicable Federal environmental laws for these projects are being, or have been, carried-out by TxDOT pursuant to 23 U.S.C. 327 and a Memorandum of Understanding dated December 16, 2014, and executed by FHWA and TxDOT.

Notice is hereby given that TxDOT and Federal agencies have taken final agency actions by issuing licenses, permits, and approvals for the highway projects in the State of Texas that are listed below.

The actions by TxDOT and Federal agencies and the laws under which such actions were taken are described in the Categorical Exclusion (CE), Environmental Assessment (EA), or Environmental Impact Statement (EIS) issued in connection with the projects and in other key project documents. The CE, EA, or EIS and other key documents for the listed projects are available by contacting TxDOT at the address provided above.

This notice applies to all TxDOT and Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Land: Section 4(f) of the Department of Transportation Act of 1966 [49 U.S.C. 303]; Landscaping and Scenic Enhancement (Wildflowers), 23 U.S.C. 319.

4. Wildlife: Endangered Species Act [16 U.S.C. 1531-1544 and Section 1536], Marine Mammal Protection Act [16 U.S.C. 1361], Fish and Wildlife Coordination Act [16 U.S.C. 661-667(d)], Migratory Bird Treaty Act [16 U.S.C. 703-712].

5. Historic and Cultural Resources: Section 106 of the National Historic Preservation Act of 1966, as amended [54 U.S.C. 300101 et seq.]; Archeological Resources Protection Act of 1977 [16 U.S.C. 470(aa)-11]; Archeological and Historic Preservation Act [54 U.S.C. 312501 et seq.]; Native American Grave Protection and Repatriation Act (NAGPRA) [25 U.S.C. 3001-3013].

6. Social and Economic: Civil Rights Act of 1964 [42 U.S.C. 2000(d)-2000(d)(1)]; American Indian Religious Freedom Act [42 U.S.C. 1996]; Farmland Protection Policy Act (FPPA) [7 U.S.C. 4201-4209].

7. Wetlands and Water Resources: Clean Water Act, 33 U.S.C. 1251-1377 (Section 404, Section 401, Section 319); Land and Water Conservation Fund (LWCF), 16 U.S.C. 4601-4604; Safe Drinking Water Act (SDWA), 42 U.S.C. 300(f)-300(j)(6); Rivers and Harbors Act of 1899, 33 U.S.C. 401-406; Wild and Scenic Rivers Act, 16 U.S.C. 1271-1287; Emergency Wetlands Resources Act, 16 U.S.C. 3921, 3931; TEA-21 Wetlands Mitigation, 23 U.S.C. 103(b)(6)(m), 133(b)(11); Flood Disaster Protection Act, 42 U.S.C. 4001-4128.

8. Executive Orders: E.O. 11990 Protection of Wetlands; E.O. 11988 Floodplain Management; E.O. 12898, Federal Actions to Address Environmental Justice in Minority Populations and Low Income Populations; E.O. 11593 Protection and Enhancement of Cultural Resources; E.O. 13007 Indian Sacred Sites; E.O. 13287 Preserve America; E.O. 13175 Consultation and Coordination with Indian Tribal Governments; E.O. 11514 Protection and Enhancement of Environmental Quality; E.O. 13112 Invasive Species. (Catalog of Federal Domestic Assistance Program Number 20.205, Highway Planning and Construction.)

The projects subject to this notice are:

1. FM 2252 from Evans Road to FM 3009, Bexar and Comal Counties. This project includes widening FM 2252 from a two-lane roadway to a four-lane roadway with a raised median or a continuous left turn lane plus bike lanes and sidewalks. The project will replace the existing bridge over Cibolo Creek and also provide an overpass at the Union Pacific Railroad crossing. The project is approximately 2.8 miles in length. The actions by TxDOT and Federal agencies and the laws under which such actions were taken are described in the Categorical Exclusion Determination issued on May 6, 2019 and other documents in the TxDOT project file. The Categorical Exclusion determination and other documents in the TxDOT project file are available by contacting TxDOT at the address provided above or the TxDOT San Antonio District Office at 4615 NW Loop 410, San Antonio, TX 78229; telephone (210) 615-5839.

2. I-410 from SH 16 to Ingram Road, Bexar County. The project includes additional capacity improvements, frontage road improvements, interchange improvements and bicycle and pedestrian accommodations. The project is approximately 14.9 miles in length. The actions by TxDOT and Federal agencies and the laws under which such actions were taken are described in the Categorical Exclusion Determination issued on May 8, 2019 and other documents in the TxDOT project file. The Categorical Exclusion determination and other documents in the TxDOT project file are available by contacting TxDOT at the address provided above or the TxDOT San Antonio District Office at 4615 NW Loop 410, San Antonio, TX 78229; telephone (210) 615-5839.

3. State Highway (SH) 146 from Farm-to-Market 519 to Loop 197 in Galveston County, Texas. The 1.4 mile long project will widen SH 146 from two-lanes to four lanes and will replace the SH 146 railroad bridge over the Texas City Terminal and Union Pacific Railroads with a four lane bridge. The project will also reconfigure the existing intersection at SH 146 and SH 3. The actions by TxDOT and Federal agencies and the laws under which such actions were taken are described in the Categorical Exclusion Determination approved on May 16, 2019 and other documents in the TxDOT project file. The Categorical Exclusion Determination and other documents in the TxDOT project file are available by contacting TxDOT at the address provided above or the TxDOT Houston District Office located at 7600 Washington Avenue, Houston, Texas 77007; telephone (713) 802-5076.

4. US 75 from FM 1417 to FM 120, in Grayson County, Texas. The purpose of the proposed project is to improve mobility on US 75 to accommodate current and future traffic volumes by reconstructing and widening the freeway from four to six lanes and removing the Texas Northeastern Division Railroad bridge crossing US 75 and the Union Pacific Railroad bridge crossing Texoma Parkway (SH 91). The proposed project would also include reconfigurations of intersections, ramp modifications, and improvements to pedestrian facilities along US 75. The proposed project length is approximately 12.7 miles in length. The actions by TxDOT and Federal agencies and the laws under which such actions were taken are described in the Categorical Exclusion approved on May 22, 2019 and other documents in the TxDOT project file. The Categorical Exclusion and other documents in the TxDOT project file are available by contacting TxDOT at the address provided above or the TxDOT Paris District Office at 1365 N Main St., Paris, Texas, 75460; telephone (903) 737-9213.

5. FM 549 from SH 205 to SH 276 in Rockwall County, Texas. The proposed improvements would include widening the existing FM 549 to a four-lane roadway with a 20-foot center turn lane with median. In addition to widening, the project would construct a new segment of FM 549 extending from south of FM 1139 to SH 205. The proposed project would include 12 to 14-foot wide lanes with 2-foot wide shoulders and 5-foot wide sidewalks on both sides of the road. At specific locations, 12-foot wide turn lanes would be added as well and a bridge would be constructed for the crossing of Long Branch. The length of the proposed project is approximately 2.08 miles. The purpose of the FM 549 roadway widening is to improve safety, mobility, capacity, and to accommodate future traffic demand in the area. The actions by TxDOT and Federal agencies and the laws under which such actions were taken are described in, the Categorical Exclusion Determination issued on May 30, 2019, and other documents in the TxDOT project file. The Categorical Exclusion Determination and other documents in the TxDOT project file are available by contacting TxDOT at the address provided above or the TxDOT Dallas District Office at 4777 E Highway 80, Mesquite, TX 75150; telephone (214) 320-4480.

6. IH 20 Overpass and Ramps at CR 1250. The construction limits are from Loop 250 to FM 1788 in Midland County, Texas. The proposed project consists of the construction of an overpass at the intersection of IH 20 and CR 1250, reconstruction of the IH 20 at CR 1250 frontage road intersection, eastbound and westbound U-turns, removal of ramps east of FM 1788, and addition of eight new ramps (four entrance and four exit) west of Loop 250. The frontage road improvements will include full reconstruction with curbs and gutters, as well as drainage improvements at both FM 1788 and Loop 250. The actions by TxDOT and Federal agencies and the laws under which such actions were taken are described in the Categorical Exclusion Determination approved on June 11, 2019, and other documents in the TxDOT project file. The Categorical Exclusion Determination and other documents in the TxDOT project file are available by contacting TxDOT at the address provided above or the TxDOT Odessa District Office at 3901 East Highway 80, Odessa, Texas 79761; telephone (432) 498-4746.

7. Farm-to-Market (FM) 2100 from Huffman-Cleveland Road (North) to FM 1960 in Harris County, Texas. The 4.5 mile long project will reconstruct and widen the existing roadway from two lanes to four lanes with a raised median. The project would also include sidewalks, a storm sewer drainage system and detention ponds. The actions by TxDOT and Federal agencies and the laws under which such actions were taken are described in the Categorical Exclusion Determination approved on June 12, 2019 and other documents in the TxDOT project file. The Categorical Exclusion Determination and other documents in the TxDOT project file are available by contacting TxDOT at the address provided above or the TxDOT Houston District Office located at 7600 Washington Avenue, Houston, Texas 77007; telephone (713) 802-5076.

8. US 75 at Ridgeview Drive in Collin County, Texas. The proposed project would reconstruct the Ridgeview interchange at US 75. The proposed US 75 at Ridgeview Drive would consist of four to five 11-foot to 12-foot wide general-purpose lanes in each direction with 10-foot wide outside shoulders and 13-foot to 16-foot wide inside shoulders separated. Auxiliary lanes would be 12 feet wide. The US 75 general purpose lanes would cross over Ridgeview Drive. There are frontage road lanes in each direction and would consist of one 14-foot wide outside shared-use lane and one to two 12-foot wide inside lanes with curb and gutter. There would be two frontage road bypass lanes in each direction including bridge replacement at Ridgeview Drive. The length of the proposed project is approximately 1.2 miles. The purpose of the proposed project is to address safety and mobility issues in the project area. The actions by TxDOT and Federal agencies and the laws under which such actions were taken are described in, the Categorical Exclusion Determination issued on June 20, 2019, and other documents in the TxDOT project file. The Categorical Exclusion Determination and other documents in the TxDOT project file are available by contacting TxDOT at the address provided above or the TxDOT Dallas District Office at 4777 E Highway 80, Mesquite, TX 75150; telephone (214) 320-4480.

9. FM 545 from FM 2933 to Business State Highway 78D (BS-78D) in Collin County, Texas. The proposed project would include widening FM 545 to accommodate twelve-foot travel lanes with ten foot shoulders and the improvement of four curves by shifting the center line of each curve to improve safety. The length of the proposed project is approximately 7.4 miles. The purpose of the proposed project is to improve safety and meet current design standards. The actions by TxDOT and Federal agencies and the laws under which such actions were taken are described in, the Categorical Exclusion Determination issued on June 27, 2019, and other documents in the TxDOT project file. The Categorical Exclusion Determination and other documents in the TxDOT project file are available by contacting TxDOT at the address provided above or the TxDOT Dallas District Office at 4777 E Highway 80, Mesquite, TX 75150; telephone (214) 320-4480.

10. US 287 from IH 45 to Intersection of US 287 and CR 2040 in Navarro County, Texas. The proposed project involves the full reconstruction of the existing rural roadway to a four-lane divided highway with sidewalk. The proposed roadway would consist generally of 4 lanes with curb & gutter, plus an 18-foot flush median. The length of the proposed project is approximately 5.77 miles. The purpose of the proposed project is to meet local and regional future travel demand by upgrading the transportation infrastructure to meet current design standards for interstates, bridges, and frontage roads, and to improve the operation of the roadway by correcting access conflicts. The actions by TxDOT and Federal agencies and the laws under which such actions were taken are described in, the Categorical Exclusion Determination issued on July 10, 2019, and other documents in the TxDOT project file. The Categorical Exclusion Determination and other documents in the TxDOT project file are available by contacting TxDOT at the address provided above or the TxDOT Dallas District Office at 4777 E Highway 80, Mesquite, TX 75150; telephone (214) 320-4480.

11. FM 148 from South of FM 3039 to US 175 in Kaufman County, Texas. The proposed project would construct a new location rural roadway connecting FM 148 with US 175. The proposed roadway would consist of two 12-foot wide travel lanes (one in each direction) with 8-foot wide shoulders and turn lanes. Approximately 3,850 feet of US 175 would be reconstructed to create an overpass crossing of the FM 148 bypass. The length of the proposed project is approximately 1.6 miles. The purpose of the proposed project is to improve operations along FM 148, improve mobility and access between FM 148 and US 175, and accommodate future traffic demand on the corridor in a manner compatible with local and regional thoroughfare plans. The actions by TxDOT and Federal agencies and the laws under which such actions were taken are described in the Final Environmental Assessment (EA) approved on March 26, 2019, Finding of No Significant Impact (FONSI) issued on June 3, 2019 and other documents in the TxDOT project file. The EA and other documents are available by contacting TxDOT at the address provided above or the TxDOT Dallas District Office at 4777 E Highway 80, Mesquite, TX 75150; telephone: (214) 320-4480.

12. IH 35E from US 77 South to US 77 North in Ellis County, Texas. The proposed project would reconstruct and widen the existing frontage roads, convert all two-way frontage roads to one-way operations and make all of the frontage roads continuous along the entire project limits. The length of the proposed project is approximately 11 miles. The purpose of the proposed project is to improve mobility on IH 35E within the city of Waxahachie in Ellis County, Texas. The actions by TxDOT and Federal agencies and the laws under which such actions were taken are described in the Final Environmental Assessment (EA) approved on June 26, 2019, Finding of No Significant Impact (FONSI) issued on June 26, 2019 and other documents in the TxDOT project file. The EA and other documents are available by contacting TxDOT at the address provided above or the TxDOT Dallas District Office at 4777 E Highway 80, Mesquite, TX 75150; telephone: (214) 320-4480.

13. SH 71 at FM 1209, Bastrop County, Texas. This project includes constructing new frontage roads, a grade separation over FM 1209 and shared use paths. The project is approximately 2.5 miles in length. The actions by TxDOT and Federal agencies and the laws under which such actions were taken are described in the Final EA approved on June 25, 2019, the Finding of No Significant Impact (FONSI) issued on June 25, 2019, and other documents in the TxDOT project file. The EA, FONSI and other documents in the TxDOT project file are available by contacting TxDOT at the address provided above or the TxDOT Austin District Office at 7901 North I-35, Austin, Texas, 78753; telephone (512) 832-7000.

14. FM 548 from North of US 80 to SH 205 in Kaufman and Rockwall Counties, Texas. There are two segments to the proposed project. Segment 1 would involve the expansion from a two-lane roadway to a six-lane divided urban minor arterial from US 80 to Windmill Farms Boulevard. Segment 2 would involve the expansion from a two-lane rural roadway to a four-lane divided urban arterial (six-lane ultimate) from Windmill Farms Boulevard to SH 205. The length of the proposed project is approximately 7.84 miles. The purpose of the proposed project is to bring the roadway up to current design standards and to reduce congestion and improve mobility within the project limits. The actions by TxDOT and Federal agencies and the laws under which such actions were taken are described in the Final Environmental Assessment (EA) approved on July 3, 2019, Finding of No Significant Impact (FONSI) issued on July 3, 2019 and other documents in the TxDOT project file. The EA and other documents are available by contacting TxDOT at the address provided above or the TxDOT Dallas District Office at 4777 E Highway 80, Mesquite, TX 75150; telephone: (214) 320-4480.

Authority: 23 U.S.C. 139(l)(1).

Issued on: July 26, 2019.
Michael T. Leary,
Director, Planning and Program Development, Federal Highway Administration.

[FR Doc. 2019-16397 Filed 8-6-19; 8:45 am]

BILLING CODE 4910-22-P